DEPARTMENT OF ENERGY

Federal Energy Regulatory Commission

[Docket No. EL17-90-000]

Linden VFT, LLC, v. Public Service Electric and Gas Company, PJM Interconnection, L.L.C.; Notice of Complaint

Take notice that on September 18, 2017, pursuant to sections 206 and 306 ¹ of the Federal Power Act, and Rules 206 and 215 of the Federal Energy Regulatory Commission's (Commission) Rules of Practice and Procedure, 18 CFR 385.206 and 385.215, Linden VFT, LLC (Linden VFT or Complainant) filed a formal complaint against Public Service Electric and Gas Company (PSEG) and PJM Interconnection, L.L.C. (PJM) (jointly Respondents) alleging that, PSEG's refusal to consent to an amendment of the Interconnection Service Agreement between Linden VFT, PSEG and PJM to reflect Linden VFT's reduction in service level of its Transmission Withdrawal Rights from Firm to Non-Firm is unjust and unreasonable, all as more fully explained in the complaint.

¹ 16 U.S.C. 824(e) and 825e (2012).

Complainant certifies that copies of the complaint were served on the contacts for Respondents as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the eFiling link at http://www.ferc.gov. Persons unable to file electronically should submit an original and 5 copies of the protest or intervention to the Federal Energy Regulatory Commission, 888 First Street NE., Washington, DC 20426.

This filing is accessible on-line at http://www.ferc.gov, using the “eLibrary” link and is available for electronic review in the Commission's Public Reference Room in Washington, DC. There is an eSubscription link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on October 10, 2017.

Dated: September 19, 2017.
Kimberly D. Bose,
Secretary.

[FR Doc. 2017-20476 Filed 9-25-17; 8:45 am]

BILLING CODE 6717-01-P